DEPARTMENT OF COMMERCE

National Oceanic and Atmospheric Administration

[RIN 0648-XE046]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Atlantic Bluefish Advisory Panel will hold a public meeting.

DATES: The meeting will be held on July 28, 2015, from 10 a.m. until noon.

ADDRESSES: The meeting will be held via webinar with a telephone-only connection option. Details on webinar registration and telephone-only connection details are available at: http://www.mafmc.org.

Council address: Mid-Atlantic Fishery Management Council, 800 North State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Mid-Atlantic Fisheries Management Council's (MAFMC) Atlantic Bluefish Advisory Panel (AP) will meet jointly with the Atlantic States Marine Fisheries Commission's (ASMFC) Atlantic Bluefish AP. The purpose of this meeting is to review and comment on the reports of the MAFMC's Scientific and Statistical Committee (SSC) and the Bluefish Monitoring Committee meetings held in July 2015. The MAFMC and the ASMFC will consider the input from the Bluefish AP in August when setting fishery specifications (i.e. catch and landings limits and management measures) for 2016-2018.

Special Accommodations

These meetings are physically accessible to people with disabilities. Requests for sign language interpretation or other auxiliary aid should be directed to M. Jan Saunders, (302) 526-5251, at least 5 days prior to the meeting date.

Dated: July 9, 2015.
Tracey L. Thompson,
Acting Deputy Director, Office of Sustainable Fisheries, National Marine Fisheries Service.

[FR Doc. 2015-17216 Filed 7-13-15; 8:45 am]

BILLING CODE 3510-22-P